ENVIRONMENTAL PROTECTION AGENCY

[FRL-6541-3]

Agency Information Collection Activities: Submission for OMB Review; Comment Request; Recordkeeping and Reporting Requirements Under EPA's Energy Star Homes Program

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Recordkeeping and Reporting Requirements Under EPA's Energy Star Homes Program, EPA ICR No. 1879.01. The ICR describes the nature of the information collection and its expected burden and cost; where appropriate, it includes the actual data collection instrument.

DATES: Comments must be submitted on or before March 23, 2000.

FOR FURTHER INFORMATION CONTACT: For a copy of the ICR, contact Sandy Farmer at EPA by phone at (202) 260-2740, by email at farmer.sandy@epamail.epa.gov, or download off the Internet at http://www.epa.gov/icr and refer to EPA ICR No. 1879.01. For technical questions about the ICR contact Glenn Chinery at (202) 564-9784.

SUPPLEMENTARY INFORMATION: Title: Recordkeeping and Reporting Requirements Under EPA's Energy Star Homes Program; EPA ICR No. 1879.01.) This is a new collection.

Abstract: This ICR covers recordkeeping and reporting activities for both participation in the Energy Star Homes Program as well as participation in a three-year impact evaluation of the Energy Star Homes Program. The Energy Star Homes Program Impact Evaluation is designed to evaluate the effectiveness of the program in meeting the program's stated objectives. The evaluation will cover Energy Star Homes built during 1997-98 (the “first year”), 1999 (the “second year”), and 2000 (the “third year”). The evaluation consists of surveying Energy Star homebuyers, non-Energy Star homebuyers (hereafter referred to as “Control” homebuyers), Energy Star builder partners, energy suppliers, and Home Energy Rating System (HERS) providers. By collecting information from these different constituents, EPA will be able to determine whether Energy Star homebuyers are satisfied with their purchase; builder partners are meeting their business objectives; and Energy Star homes are delivering the pollution prevention promised. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on 10/05/98 (63 FR 53415), no comments were received.

Burden Statement: The annual public reporting and recordkeeping burden for participation on the Energy Star Homes Program is estimated to be 3.7 hours per participant. The burden for the respondents participating in the Impact Evaluation is estimated to average 0.22 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Home Energy Rating System (HERS) providers, Energy Star Home builders, Energy Star Home and control home buyers, energy suppliers (utility companies) of home buyers.

Estimated Number of Respondents:

1. Memorandum of Understanding: 533 each year for 3 years.

2. HERS providers (information from form already filled out by HERS provider in course of his/her business): 1st year—1,000; 2nd year—5,500; 3rd year—14,000.

3. Energy Star Home Builders: 1st year—600; 2nd year—200, 3rd year—200.

4. Energy Star Home and control home buyers (two groups): 686 from each group each year for 3 years.

5. Energy suppliers (utility companies) of these home buyers—see previous item: 686 from each group each year for 3 years.

Frequency of Response: Once for each respondent.

Estimated Total Annual Hour Burden: 3,198 hours.

Estimated Total non-labor Cost Burden: $0.

Send comments on the Agency's need for this information, the accuracy of the provided burden estimates, and any suggested methods for minimizing respondent burden, including through the use of automated collection techniques to the following addresses. Please refer to EPA ICR No 1879.01 in any correspondence.

Ms. Sandy Farmer, Collection Strategies Division, Office of Environmental Information (OEI), U.S. Environmental Protection Agency (2822), 1200 Pennsylvania Ave. NW, Washington, DC 20460;

and

Office of Information and Regulatory Affairs, Office of Management and Budget, Attention: Desk Officer for EPA, 725 17th Street, NW, Washington, DC 20503.

Dated: February 15, 2000.
Oscar Morales,
Director, Collection Strategies Division.

[FR Doc. 00-4140 Filed 2-18-00; 8:45 am]

BILLING CODE 6560-50-P